DEPARTMENT OF COMMERCE

International Trade Administration

[A-570-996, A-428-843, A-588-872, A-401-809]

Non-Oriented Electrical Steel From the People's Republic of China, Germany, Japan, and Sweden: Postponement of Final Determinations of Sales at Less Than Fair Value

AGENCY: Enforcement and Compliance, International Trade Administration, Department of Commerce.

SUMMARY: The Department of Commerce (“the Department”) is postponing the deadline for issuing the final determinations in the less-than-fair-value (“LTFV”) investigations of non-oriented electrical steel from the People's Republic of China (“the PRC”), Germany, Japan, and Sweden and is extending the provisional measures from a four-month period to a period not more than six months in duration.

DATES: Effective Date: July 2, 2014.

FOR FURTHER INFORMATION CONTACT: Yang Jin Chun at (202) 482-5760 (the PRC); Patrick O'Connor at (202) 482-0989 (Germany); Thomas Martin at (202) 482-3936 (Japan); and Drew Jackson at (202) 482-4406 (Sweden); Antidumping and Countervailing Duty Operations, Enforcement and Compliance, International Trade Administration, U.S. Department of Commerce, 14th Street and Constitution Avenue NW., Washington, DC 20230.

SUPPLEMENTARY INFORMATION: On November 18, 2013, the Department published a notice of initiation of the LTFV investigations of non-oriented electrical steel from the PRC, Germany, Japan, the Republic of Korea, Sweden and Taiwan.¹ The period of investigation is July 1, 2012, through June 30, 2013 for Germany, Japan and Sweden investigations and January 1, 2013, through June 30, 2013 for the PRC investigation. On May 22, 2014, the Department published its affirmative preliminary determinations in the LTFV investigations of non-oriented electrical steel from the PRC, Germany, Japan and Sweden.² Various exporters in each of these LTFV investigations submitted letters requesting that the Department extend the deadline for issuance of the final determinations in these LTFV investigations and agreeing to the extension of the provisional measures from a four-month period to a period not more than six months in duration.³

¹ See Non-Oriented Electrical Steel From the People's Republic of China, Germany, Japan, the Republic of Korea, Sweden and Taiwan: Initiation of Antidumping Duty Investigations, 78 FR 69041 (November 18, 2013).

² See Non-Oriented Electrical Steel From Germany, Japan, and Sweden: Preliminary Determinations of Sales at Less Than Fair Value, Certain Affirmative Preliminary Determinations of Critical Circumstances, in Part, 79 FR 29423 (May 22, 2014), and Non-Oriented Electrical Steel From the People's Republic of China: Preliminary Determination of Sales at Less Than Fair Value, 79 FR 29421 (May 22, 2014) (collectively Preliminary Determinations).

³ See March 20, 2014 letter from Baohan Iron & Steel Co., Ltd. (“Baoshan”), entitled, “Non-Oriented Electrical Steel from the People's Republic of China: Postponement Request of Final Determination.”; May 19, 2014 letter from ThyssenKrupp Steel Europe (“ThyssenKrupp”) entitled, “Non-Oriented Electrical Steel from Germany: Request to Postpone Final Determination”; May 19, 2014 letter from JFE Steel Corporation (“JFE Steel”) entitled, “Request Extension of Final Determination; Non-Oriented Electrical Steel from Japan”; May 19, 2014 letter from Nippon Steel & Sumitomo Metal Corporation (“Nippon”) entitled, “Non-Oriented Electrical Steel from Japan (Antidumping Investigation): Request to Postpone Final Determination”; May 22, 2014 letter from Cogent Power Inc. and Surahammars Bruk AB (collectively “Surahammars”) entitled, “Non-Oriented Electrical Steel from Sweden: Request to Postpone the Final Determination”; and May 23, 2014 letter from CD Walzholz KG (“CDW”), entitled, “Non-Oriented Electrical Steel from Germany: Request for Postponement.”

Postponement of Final Determination

Section 735(a)(2) of the Tariff Act of 1930, as amended (the Act), provides that a final determination may be postponed until not later than 135 days after the date of the publication of the preliminary determination if, in the event of an affirmative preliminary determination, a request for such postponement is made by exporters who account for a significant proportion of exports of the subject merchandise, or in the event of a negative preliminary determination, a request for such postponement is made by the petitioner. Section 351.210(e)(2) of the Department's regulations requires that requests by respondents for postponement of a final determination be accompanied by a request for extension of provisional measures from a four-month period to a period not more than six months in duration.

Baoshan, ThyssenKrupp, JFE Steel, Nippon, Surahammars, and CDW requested that the Department postpone its final determinations by 60 days (i.e., to 135 days after publication of the Preliminary Determinations), and agreed to extend the application of the provisional measures prescribed under section 733(d) of the Act and 19 CFR 351.210(e)(2), from a four-month period to a period not to exceed six months. CDW, JFE Steel, and Surahammars are mandatory respondents in their respective investigations. While Baoshan, Nippon, and ThyssenKrupp are not mandatory respondents, they were identified as producers or exporters of subject merchandise in the Petitions.⁴

⁴ See Petitions for the Imposition of Antidumping and Countervailing Duties on Imports of Non-Oriented Electrical Steel From the People's Republic of China, Germany, Japan, the Republic of Korea, Sweden, and Taiwan, dated September 30, 2013 (“Petitions”).

On May 22, 2014, AK Steel Corporation (“Petitioner”) objected to the requests that the deadline be postponed in the PRC, Germany and Japan investigations.⁵ On June 9, 2014, Petitioner withdrew its opposition to postponement of the final determinations in the PRC, Germany and Japan investigations.⁶

⁵ See May 22, 2014 letters from Petitioner entitled, “Non-Oriented Electrical Steel from the People's Republic of China: Petitioner's Opposition to Boashan's Request to Postpone The Final Determination;” “Non-Oriented Electrical Steel from Germany: Petitioner's Opposition to ThyssenKrupp Steel Europe's Request to Postpone The Final Determination;” “Non-Oriented Electrical Steel from Japan: Petitioner's Opposition to JFE Steel's and NSSMC's Requests to Postpone The Final Determination in This Investigation.”

⁶ See June 9, 2014 letters from Petitioner entitled, “Non-Oriented Electrical Steel from the People's Republic of China: Petitioners Withdrawal of Opposition to Postponement of the Final Determination;” “Non-Oriented Electrical Steel from Germany: Petitioners Withdrawal of Opposition to Postponement of the Final Determination;” “Non-Oriented Electrical Steel from Japan: Petitioners Withdrawal of Opposition to Postponement of the Final Determination.”

In accordance with section 735(a)(2)(A) of the Act and 19 CFR 351.210(b)(2)(ii), because (1) our preliminary determinations were affirmative; (2) the requesting producers or exporters account for a significant proportion of exports of the subject merchandise from their respective country; and (3) no compelling reasons for denial exist, we are postponing the final determination until no later than 135 days after the publication of the Preliminary Determinations (i.e., to October 4, 2014) and extending the provisional measures from a four-month period to a period not greater than six months. Accordingly, we will issue our final determination no later than 135 days after the date of publication of this preliminary determination, pursuant to section 735(a)(2) of the Act. Because October 4, 2014, is a Saturday, the actual due date for the final determinations of these LTFV investigations will be Monday, October 6, 2014.⁷

⁷ See Notice of Clarification: Application of “Next Business Day” Rule for Administrative Determination Deadlines Pursuant to the Tariff Act of 1930, As Amended, 70 FR 24533 (May 10, 2005).

This notice is issued and published pursuant to section 735(a)(2)(A) of the Act and 19 CFR 351.210(g).

Dated: June 25, 2014._
Paul Piquado,
Assistant Secretary for Enforcement and Compliance.

[FR Doc. 2014-15562 Filed 7-1-14; 8:45 am]

BILLING CODE 3510-DS-P